DEPARTMENT OF AGRICULTURE

Food and Nutrition Service

Agency Information Collection Activities: Proposed Collection; Comment Request—Supplemental Nutrition Assistance Program: State Issuance and Participation Estimates—Form FNS-388

AGENCY: Food and Nutrition Service, USDA.

ACTION: Notice.

SUMMARY: In accordance with the Paperwork Reduction Act of 1995, the Food and Nutrition Service (FNS) is publishing for public comment a summary of a proposed information collection. The proposed collection is a revision of a collection currently approved under OMB No. 0584-0081 for the Supplemental Nutrition Assistance Program (SNAP) (formerly the Food Stamp Program) for the form FNS-388, State Issuance and Participation Estimates.

DATES: Comments on this notice must be received by January 29, 2010 to be assured of consideration.

ADDRESSES: Comments are invited on: (a) Whether the proposed collection of information is necessary for the proper performance of the functions of the agency, including whether the information shall have practical utility; (b) the accuracy of the agency's estimate of the burden of the proposed collection of information including the validity of the methodology and assumptions used; (c) ways to enhance the quality, utility, and clarity of the information to be collected; and (d) ways to minimize the burden of the collection of information on those who are to respond, including use of appropriate automated, electronic, mechanical, or other technological collection techniques or other forms of information technology.

Comments may be sent to Jane Duffield, Chief, State Administration Branch, Supplemental Nutrition Assistance Program, Food and Nutrition Service, USDA, 3101 Park Center Drive, Room 818, Alexandria, VA 22302. Comments may also be submitted via fax to the attention of Ms. Duffield at 703-605-0795 or via e-mail to PADMAILBOX@fns.usda.gov. Comments will also be accepted through the Federal eRulemaking Portal. Go to http://www.regulations.gov and follow the online instructions for submitting comments electronically.

All written comments will be open for public inspection at the office of the Food and Nutrition Service during regular business hours (8:30 a.m. to 5 p.m. Monday through Friday) at 3101 Park Center Drive, Room 818, Alexandria, Virginia 22302.

All responses to this notice will be summarized and included in the request for Office of Management and Budget approval. All comments will become a matter of public record.

FOR FURTHER INFORMATION CONTACT: Requests for additional information or copies of this information collection should be directed to Jane Duffield at (703) 605-4385.

SUPPLEMENTARY INFORMATION:

Title: Form FNS-388, State Issuance and Participation Estimates.

OMB Number: 0584-0081.

Expiration Date: 4/30/2010.

Type of Request: Revision of a currently approved information collection.

Abstract: Section 18(b) of the Food and Nutrition Act of 2008, (the Act) 7 U.S.C. 2027(b), limits the value of allotments paid to SNAP households to an amount not in excess of the appropriation for the fiscal year. If allotments in any fiscal year would exceed the appropriation, the Secretary of Agriculture is required to direct State agencies to reduce the value of SNAP allotments to the extent necessary to stay within appropriated funding limits. Timely State monthly issuance estimates are necessary for FNS to ensure that it remains within the appropriation. The estimates will also have a direct effect upon the manner in which allotments would be reduced if necessary. While benefit reductions have never been ordered in the past under Section 18(b), nor are they anticipated based on current data, the Department must continue to monitor actual program costs against the appropriation.

Section 11(e)(12) of the Act, 7 U.S.C. 2020 (e)(12), requires that the State Plan of Operations provide for the submission of reports required by the Secretary of Agriculture. State agencies are required to report on a monthly basis on the FNS-388, State Issuance and Participation Estimates, estimated or actual issuance and participation data for the current month and previous month, and actual participation data for the second preceding month. The FNS-388 report provides the necessary data for an early warning system to enable the Department to monitor actual and estimated costs for all forms of issuance against the appropriation.

State agencies in general only submit one Statewide FNS-388 per month which covers benefits from their electronic benefit transfer (EBT) system. The exception is that State agencies which choose to operate an approved alternative issuance demonstration project such as a cash-out system submit a separate report for each additional type of issuance system.

In addition, State agencies are required to submit a project area breakdown on the FNS-388 of issuance and participation data twice a year. The project area breakdown attached to the FNS-388 twice a year is known as the FNS-388A. This data is useful in identifying project areas that operate fraud detection units in accordance with the Act.

FNS carefully considered the Account Management Agent (AMA) issuance data and whether it could be used for the FNS-388 system. However, AMA data does not include participation data, cash-out benefit data, or other alternative issuance data. Under current reporting, AMA would not be able to mirror our more comprehensive FNS-388 system. Moving the data would require modifications to several FNS systems that currently report, use, and analyze the FNS-388 data. After careful consideration, EBT issuance and participation estimates will continue on the FNS-388.

As of August 2009, 96 percent of the total responses submitted the FNS-388 data electronically and 4 percent submitted paper reports. As of January 2009, the last report month for which the FNS-388A was submitted, 92 percent of the total response submitted FNS-388A data electronically and 8 percent submitted paper reports.

Affected Public: State agencies that administer SNAP.

Estimated Number of Respondents: 53.

Estimated Number of Responses per Respondent: 13.81.

Estimated Total Annual Responses: 732.

Estimated Hours per Response: 7.14.

Estimated Total Annual Burden on Respondents: The annual reporting and recordkeeping burden for OMB No. 0584-0081 is estimated to be 5,226 hours. This burden is unchanged.

SNAP has 53 State agencies that administer SNAP and are respondents as mentioned above. But some State agencies administer more than one issuance system and thus respond more than once so we have 61 who respond for SNAP in total as shown below to show the total annual responses and total burden.

Affected public | Forms | Number of respondents | Frequency of response | Total annual responses | Time per response (hrs) | Annual burden hours
| FNS-388 | 61 | 10 | 610 | 5.6 | 3,416.00
State Agencies | FNS-388A | 61 | 2 | 122 | 14.83 | 1,809.7
Total Burden Estimates |  | 61 |  | 732 |  | 5,225.7

Dated: November 17, 2009.
Julie Paradis,
Administrator.

[FR Doc. E9-28475 Filed 11-27-09; 8:45 am]

BILLING CODE 3410-30-P